DEPARTMENT OF AGRICULTURE

Food Safety and Inspection Service

[Docket No. 02-001N]

Codex Alimentarius Commission: 30th Session of the Codex Committee on Food Labelling

AGENCY: Office of the Under Secretary for Food Safety, USDA.

ACTION: Notice of public meeting, request for comments.

SUMMARY: The Office of the Under Secretary for Food Safety, U.S. Department of Agriculture (USDA), and the Food and Drug Administration (FDA), are sponsoring a public meeting on March 19, 2002, to provide information and receive public comments on agenda items that will be discussed at the Codex Committee on Food Labelling (CCFL), which will be held in Halifax, Canada on May 6-10, 2002. The Under Secretary and FDA recognize the importance of providing interested parties the opportunity to obtain background information on the Thirtieth Session of the Food Labelling Committee of the Codex Alimentarius Commission (Codex) and to address items on the Agenda for the 30th CCFL.

DATES: The public meeting is scheduled for Tuesday, March 19th, 2002, from 1 p.m. to 5 p.m.

ADDRESSES: The public meeting will be held at the Auditorium, Harvey W. Wiley Federal Building, 5100 Paint Branch Parkway, College Park, MD. To receive copies of the documents referenced in the notice contact the FSIS Docket Clerk, U.S. Department of Agriculture, Food Safety and Inspection Service, Room 102, Cotton Annex, 300 12th Street, SW., Washington, DC 20250-3700. The documents will also be accessible via the World Wide Web at the following address: http://www.codexalimentarius.net. If you have comments, please send an original and two copies to the FSIS Docket Room, Docket #02-001N. All comments submitted will be available for public inspection in the Docket Clerk's Office between 8:30 a.m. and 4:30 p.m., Monday through Friday.

FOR FURTHER INFORMATION CONTACT: Dr. F. Edward Scarbrough, U.S. Manager for Codex, U.S. Codex Office, FSIS Room 4861, South Building, 1400 Independence Avenue SW., Washington, DC 20250-3700, Phone: (202) 205-7760, Fax: (202) 720-3157. Persons requiring a sign language interpreter or other special accommodations should notify Dr. F. Edward Scarbrough at the above telephone number.

SUPPLEMENTARY INFORMATION:

Background

Codex was established in 1962 by two United Nations organizations, the Food and Agriculture Organization (FAO) and the World Health Organization (WHO). Codex is the major international organization for protecting the health and economic interests of consumers and encouraging fair international trade in food. Through adoption of food standards, codes of practice, and other guidelines developed by its committees, and by promoting their adoption and implementation by governments, Codex seeks to ensure that the world's food supply is sound, wholesome, free from adulteration, and correctly labeled. In the United States, USDA, FDA, and EPA manage and carry out U.S. Codex activities.

The Codex Committee on Food Labeling drafts provision on labeling applicable to all foods; considers, amends if necessary, and endorses specific provisions on labeling of draft standards, codes of practice, and guidelines prepared by other Codex committees; studies specific labeling problems assigned to it by the Commission; and studies problems associated with the advertisement of food with particular reference to claims and misleading descriptions. The Committee is chaired by Canada.

Issues To Be Discussed at the Public Meeting

The provisional agenda items will be discussed during the public meeting:

1. Adoption of the Agenda.

2. Matters referred by the Codex Alimentarius Commission and other Codex Committees.

3. Consideration of Labelling Provisions in Draft Codex Standards.

4. Guidelines for the Production, Processing, Labelling and Marketing of Organically Produced Foods: Proposed Draft Revised Sections: Section 5—Criteria and Annex Annex 2—Permitted Substances.

5. (a) Draft Recommendations for the Labelling of Foods obtained through Certain Techniques of Genetic Modification/Genetic Engineering (Draft Amendment to the General Standard for the Labelling of Prepackaged Foods): Definitions.

(b) Proposed Draft Recommendations for the Labelling of Foods obtained through Certain Techniques of Genetic Modification/Genetic Engineering (Proposed Draft Guidelines for the Labelling of Foods and Food Ingredients Obtained through Certain Techniques of Genetic Modification/Engineering): Labelling Provisions.

6. Draft Amendment to the General Standard for the Labelling of Prepackaged Foods (Class names).

7. Proposed Draft Amendment to the Guidelines on Nutrition Labelling (Section 3.2 Listing of Nutrients).

8. Proposed Draft Recommendations for the Use of Health and Nutrition Claims.

9. Proposed Draft Amendment to the General Standard for the Labelling of Prepackaged Foods: Quantitative Declaration of Ingredients.

10. Discussion Paper on Country of Origin Labelling.

11. Discussion Paper on Misleading Claims.

Each issue listed will be fully described in documents distributed, or to be distributed, by the Canadian Secretariat to the Meeting. Members of the public may access or request copies of these documents (see ADDRESSES).

Public Meeting

At the March 19th public meeting, the agenda items will be described, discussed, and attendees will have the opportunity to pose questions and offer comments. Comments may be sent to the FSIS Docket Room (see ADDRESSES). Written comments should state that they relate to activities of the 30th CCFL.

Additional Public Notification

Pursuant to Departmental Regulation 4300-4, “Civil Rights Impact Analysis,” dated September 22, 1993, FSIS has considered the potential civil rights impact of this notice on minorities, women, and persons with disabilities. Therefore, to better ensure that these groups and others are made aware of this meeting, FSIS will announce it and provide copies of the Federal Register publication in the FSIS Constituent Update.

The Agency provides a weekly FSIS Constituent Update, which is communicated via fax to over 300 organizations and individuals. In addition, the update is available on line through the FSIS Web page located at http://www.fsis.usda.gov. The update is used to provide information regarding Agency policies, procedures, regulations, Federal Register Notices, FSIS public meetings, recalls and any other types of information that could affect or would be of interest to our constituents/stakeholders. The constituent fax list consists of industry, trade, and farm groups, consumer interest groups, allied health professionals, scientific professionals and other individuals that have requested to be included. Through these various channels, the Agency is able to provide information with a much broader, more diverse audience.

For more information and to be added to the constituent fax list, fax your request to the Office of Congressional and Public Affairs, at (202) 720-5704.

Done at Washington, DC, on March 6, 2002.
F. Edward Scarbrough,
U.S. Manager for Codex Alimentarius.

[FR Doc. 02-5761 Filed 3-8-02; 8:45 am]

BILLING CODE 3410-DM-P